OCCUPATIONAL SAFETY AND HEALTH REVIEW COMMISSION

29 CFR Part 2200

Revisions To Procedural Rules Governing Practice Before the Occupational Safety and Health Review Commission

AGENCY: Occupational Safety and health Review Commission.

ACTION: Advance notice of proposed rulemaking.

SUMMARY: This document solicits recommendations for amendments to the Commission's rules of procedure.

DATES: Submit commits on or before July 19, 2004.

FOR FURTHER INFORMATION CONTACT: Earl R. Ohman, Jr., General Counsel, (202) 606-5410, Occupational Safety and Health Review Commission, 1120 20th St., NW., Ninth Floor, Washington, DC 20036-3419.

SUPPLEMENTARY INFORMATION:

List of Subjects in 29 CFR Part 2200

Rules of Procedure.

1. The authority citation for part 2200 continues to read as follows:

Authority: 29 U.S.C. 661(g).

2. The Occupational Safety and Health Review Commission last implemented a comprehensive revision of its rules of procedure in 1986. Since that time, technological advances and the evolution of practice before the Commission has made it clear that a careful reexamination of the Commission's rules of procedure, as set forth in 29 CFR part 2200, is desirable. Rather than taking a piecemeal approach, the Commission id considering comprehensive revisions to those rules. To assist the agency in determining what revisions should be made, it hereby solicits recommendations from the public, especially from those who practice before it, for changes to its rules of procedure. Recommended changes to any rule will be considered. Particular areas of interest to the Commission include, but are not limited to, the adoption of rules to implement electronic filing and service of documents, whether electronic filing should be mandatory, the expansion of the range of cases eligible for E-Z trial and the Settlement Part, the availability of appropriate ¹ sanctions for rule violations and expanding the authority of administrative law judges to impose such sanctions, the grounds for obtaining Commission review of interlocutory orders issued by its administrative law judges, and the restriction of practice before the Commission to lawyers and in-house company and union representatives. Comments should include a brief discussion of the reasons for the suggested rule change, why the proposed amendment would facilitate improved practice before the Commission, and a reference to authority where necessary.

¹ The Commission is not currently considering the issue of imposing monetary sanctions upon the parties.

Dated: June 10, 2004.
Earl R. Ohman, Jr.,
General Counsel.

[FR Doc. 04-13607 Filed 6-16-04; 8:45 am]

BILLING CODE 7600-01-M